DEPARTMENT OF HEALTH AND HUMAN SERVICES

Centers for Disease Control and Prevention

Office of the Director; The Advisory Committee to the Director, CDC; Meeting

Notice of Cancellation: This notice was published in the Federal Register on September 29, 2014, Volume 79, Number 189, page 58353. The meeting previously scheduled to convene on October 23, 2014 has been cancelled.

Contact Person for More Information: Gayle Hickman, Committee Management Specialist, Office of the Chief of Staff, 1600 Clifton Road, Mail Stop D-14, Atlanta, GA 30303; telephone 404/639-7158, fax 404/639-7212; Email: ghickman@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2014-25258 Filed 10-22-14; 8:45 am]

BILLING CODE 4163-18-P